DEPARTMENT OF THE INTERIOR

National Park Service

Notice of Inventory Completion: Wisconsin Historical Society, Museum Division, Madison, WI

AGENCY: National Park Service, Interior.

ACTION: Notice.

Notice is here given in accordance with the Native American Graves Protection and Repatriation Act (NAGPRA), 25 U.S.C. 3003, of the completion of an inventory of human remains in the possession of the Wisconsin Historical Society, (aka State Historical Society of Wisconsin), Museum Division, Madison, WI. The human remains were removed from Furnas County, NE.

This notice is published as part of the National Park Service's administrative responsibilities under NAGPRA, 25 U.S.C. 3003(d)(3). The determinations in this notice are the sole responsibility of the museum, institution, or Federal agency that has control of the Native American human remains. The National Park Service is not responsible for the determinations in this notice.

An assessment of the human remains was made by the Wisconsin Historical Society professional staff in consultation with representatives of the Pawnee Nation of Oklahoma.

At an unknown date, human remains representing a minimum of one individual were removed from a grave near Cambridge, Furnas County, NE. In 1911, the skull was donated to the Wisconsin Historical Society. No known individual was identified. No associated funerary objects are present.

Analysis performed by staff at the Wisconsin Historical Society determined that the remains represent one individual of Native American ancestry. According to historical records, the Pawnee traditionally inhabited the central-eastern region of Nebraska until their removal to their present-day reservation in Oklahoma in 1875. The Kitkahahki or Republican band of the Pawnee lived in villages along the Republican River. Cambridge, NE, is also located along the Republican River. Historical records also suggest that the Pawnee inhabited this region to the exclusion of other tribes.

Officials of the Wisconsin Historical Society, Museum Division, have determined that, pursuant to 25 U.S.C. 3001(9), the human remains described above represent the physical remains of one individual of Native American ancestry. Officials of the Wisconsin Historical Society, Museum Division, also have determined that, pursuant to 25 U.S.C. 3001(2), there is a relationship of shared group identity that can be reasonably traced between the Native American human remains and the Pawnee Nation of Oklahoma.

Representatives of any other Indian tribe that believes itself to be culturally affiliated with the human remains should contact Jennifer L. Kolb, Wisconsin Historical Museum, 30 N. Carroll St., Madison, WI 53703, telephone (608) 261-2461, before August 18, 2010. Repatriation of the human remains to the Pawnee Nation of Oklahoma may proceed after that date if no additional claimants come forward.

The Wisconsin Historical Society, Museum Division, is responsible for notifying the Pawnee Nation of Oklahoma that this notice has been published.

Dated: July 9, 2010.
Sherry Hutt,
Manager, National NAGPRA Program.

[FR Doc. 2010-17475 Filed 7-16-10; 8:45 am]

BILLING CODE 4312-50-P